DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Marine Mammal Health and Stranding Response Program.

OMB Control Number: 0648-0178.

Form Number(s): None.

Type of Request: Regular (revision of a currently approved information collection).

Number of Respondents: 400.

Average Hours per Response: Stranding and disposition reports, 30 minutes each; human interaction form, 1 hour.

Burden Hours: 3,000.

Needs and Uses: This request is for revision of a currently approved information collection.

The marine mammal stranding report provides information on strandings so that the National Marine Fisheries Service (NMFS) can compile and analyze, by region, the species, numbers, conditions, and causes of illnesses and deaths (including health problems related to human interaction) in stranded marine mammals. NMFS requires this information to fulfill its management responsibilities under the Marine Mammal Protection Act (16 U.S.C. 1421a). NMFS is also responsible for the welfare of marine mammals while in rehabilitation status. The data from the marine mammal rehabilitation disposition report are required for monitoring and tracking of marine mammals held at various NMFS-authorized facilities.

Revision: The data from a new human interaction exam form are required for monitoring and tracking of illnesses, injury, and death related to human interaction. This information is will be submitted primarily by members of the marine mammal stranding networks which are authorized by NMFS.

Affected Public: Business or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 28, 2015.
Sarah Brabson,
NOAA PRA Clearance Officer.

[FR Doc. 2015-13359 Filed 6-1-15; 8:45 am]

BILLING CODE 3510-22-P